FEDERAL COMMUNICATIONS COMMISSION

47 CFR Part 73

[MB Docket No 06-121; MB Docket No 02-277; FCC 06-93]

2006 Quadrennial Regulatory Review; 2002 Biennial Regulatory Review—Review of the Commission's Broadcast Ownership Rules

AGENCY: Federal Communications Commission.

ACTION: Proposed rule; extension of comment period.

SUMMARY: In this document, the Media Bureau extends the comment and reply comment period in this proceeding. The Commission seeks comment on how to address issues raised by the U.S. Court of Appeals for the Third Circuit with respect to rules, as adopted or revised in the 2002 Biennial Review of the Commission's broadcast ownership rules.

DATES: Comments are due October 23, 2006, and Reply Comments are due on December 21, 2006.

ADDRESSES: You may submit comments, identified by MB Docket No 06-121 and/or MB Docket No 06-277, by any of the following methods:

• Federal eRulemaking Portal: http://www.regulations.gov. Follow the instructions for submitting comments.

• Federal Communications Commission's Web Site: http://www.fcc.gov/cgb/ecfs/. Follow the instructions for submitting comments.

• E-mail: ecfs@fcc.gov. Include the following words in the body of the message, “get form.” A sample form and directions will be sent in response.

• Mail: Commercial overnight mail (other than U.S. Postal Service Express Mail and Priority Mail) must be sent to 9300 East Hampton Drive, Capitol Heights, MD 20743. U.S. Postal Service first-class, Express, and Priority mail should be addressed to 445 12th Street, SW., Washington, DC 20554.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: Mania Baghdadi, Industry Analysis Division, Media Bureau, Federal Communications Commission, (202) 418-2330. Press inquiries should be directed to Rebecca Fisher, (202) 418-2359, TTY: (202) 418-7365 or (888) 835-5322.

SUPPLEMENTARY INFORMATION: This is a summary of the Commission's Order in MB Docket No. 06-121, DA 06-1663, adopted and released September 18, 2006. Pursuant to § 1.415 and 1.419 of the Commission's rules, 47 CFR 1.415, 1.419, interested parties may file comments by October 23, 2006 and reply comments on or before the dates December 21, 2006. Comments may be filed using: (1) The Commission's Electronic Comment Filing System (ECFS), (2) the Federal Government's eRulemaking Portal, or (3) by filing paper copies. See Electronic Filing of Documents in Rulemaking Proceedings, 63 FR 24121, May 1, 1998.

• Electronic Filers: Comments may be filed electronically using the Internet by accessing the ECFS: http://www.fcc.gov/cgb/ecfs/ or the Federal eRulemaking Portal: http://www.regulations.gov. Filers should follow the instructions provided on the website for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number. Filings can be sent by hand or messenger delivery, by commercial overnight courier, or by first-class or overnight U.S. Postal Service mail (although we continue to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail should be addressed to 445 12th Street, SW., Washington, DC 20554.

People with Disabilities: To request materials in accessible formats for people with disabilities (braille, large print, electronic files, audio format), send an e-mail to fcc504@fcc.gov or call the Consumer & Governmental Affairs Bureau at 202-418-0530 (voice), 202-418-0432 (tty).

Synopsis of the Order

1. On July 24, 2006, the Commission released its Further Notice of Proposed Rule Making (FNPRM), 71 FR 45511, August 9, 2006, in the above-captioned proceeding. The current deadlines to file comments and reply comments in this proceeding are September 22, 2006, and November 21, 2006, respectively.

2. In the FNPRM, the Commission seeks comment on how to address the issues raised by the U.S. Court of Appeals for the Third Circuit in Prometheus v. FCC with regard to six of the Commission's broadcast ownership rules and initiates the 2006 quadrennial review of the Commission's media ownership rules. We are seeking comment on each of the ownership rules remanded by the court, and are encouraging parties to submit comments that include empirical evidence, as well as sound economic theory.

3. On September 14, 2006, ION Media Networks, Inc. (ION) and Free Press, et al. (Free Press) filed separate motions asking the Commission to extend the comment and reply comment deadlines. Both ION and Free Press assert that they need additional time to complete research and analysis and to compile data necessary to fully address the complex issues raised in the FNPRM. In addition, Free Press suggests that an extension of time would allow parties to respond to issues raised at the Commission's upcoming hearing on media ownership, scheduled to take place on October 3, 2006, in Los Angeles, California.

4. We believe that the public interest and our goal of assembling a full record in this proceeding would be best served by granting an extension of the comment and reply comment filing deadlines so that parties may have sufficient time to conduct studies and compile data that will inform our decision in this proceeding. The new deadline for comments is October 23, 2006, and the new deadline for reply comments is December 21, 2006.

5. Accordingly, it is ordered that ION Media Networks, Inc.'s Motion for Extension of Time and Free Press, et al.'s Joint Motion for Extension of Time filed in the above-captioned proceeding are granted to the extent stated in this Order.

6. It is further ordered that the deadline for filing comments in this proceeding is extended to October 23, 2006.

7. It is further ordered that the deadline for filing reply comments in this proceeding is extended to December 21, 2006.

Federal Communications Commission.
Donna C. Gregg,
Chief, Media Bureau.

[FR Doc. 06-8168 Filed 9-27-06; 8:45 am]

BILLING CODE 6712-01-P